DEPARTMENT OF COMMERCE

Bureau of Industry and Security

[Docket No. 021001228-2228-01]

National Defense Stockpile Market Impact Committee Request for Public Comments on the Potential Market Impact of Proposed Stockpile Disposals in FY 2003 and FY 2004

AGENCY: U.S. Department of Commerce.

ACTION: Notice of inquiry.

SUMMARY: This notice is to advise the public that the National Defense Stockpile Market Impact Committee (co-chaired by the Departments of Commerce and State) is seeking public comments on the potential market impact of proposed increases in the disposal levels of excess materials from the National Defense Stockpile under the Fiscal Year 2003 Annual Materials Plan and proposed commodity disposal levels under the Fiscal Year 2004 Annual Materials Plan.

DATES: Comments must be received by November 14, 2002.

ADDRESSES: Written comments should be sent to Richard V. Meyers, Co-Chair, Stockpile Market Impact Committee, Office of Strategic Industries and Economic Security, Room 3876, Bureau of Industry and Security, U.S. Department of Commerce, 14th Street and Constitution Avenue, NW., Washington, DC 20230; FAX (202) 482-5650; e-mail: rmeyers@bis.doc.gov.

FOR FURTHER INFORMATION CONTACT: The co-chairs of the National Defense Stockpile Market Impact Committee. Contact either Richard V. Meyers, Office of Strategic Industries and Economic Security, Bureau of Industry and Security, U.S. Department of Commerce, (202) 482-3634 or Terri L. Robl, Office of International Energy and Commodity Policy, U.S. Department of State, (202) 647-3423.

SUPPLEMENTARY INFORMATION: Under the authority of the Strategic and Critical Materials Stock Piling Act of 1979, as amended, (50 U.S.C. 98 et seq.), the Department of Defense (“DOD”), as National Defense Stockpile Manager, maintains a stockpile of strategic and critical materials to supply the military, industrial, and essential civilian needs of the United States for national defense. Section 3314 of the Fiscal Year (“FY”) 1993 National Defense Authorization Act (“NDAA”) (50 U.S.C. 98h-1) formally established a Market Impact Committee (“the Committee”) to “advise the National Defense Stockpile Manager on the projected domestic and foreign economic effects of all acquisitions and disposals of materials from the stockpile * * *” The Committee must also balance market impact concerns with the statutory requirement to protect the Government against avoidable loss.

The Committee is comprised of representatives from the Departments of Commerce, State, Agriculture, Defense, Energy, Interior, Treasury, and the Federal Emergency Management Agency, and is co-chaired by the Departments of Commerce and State. The FY 1993 NDAA directs the Committee to “consult from time to time with representatives of producers, processors and consumers of the types of materials stored in the stockpile.”

The National Defense Stockpile Administrator is proposing (1) revision of the previously approved FY 2003 Annual Materials Plan (“AMP”) quantities for three materials, and (2) the new FY 2004 AMP, as set forth in Attachment 1. The Committee is seeking public comments on the potential market impact of the sale of these materials as proposed in revision of the FY 2003 AMP and the FY 2004 AMP.

The AMP quantities are not targets for either sale or disposal. They are only a statement of the proposed maximum disposal quantity of each listed material that may be sold in a particular fiscal year. The quantity of each material that will actually be offered for sale will depend on the market for the material at the time of the offering as well as on the quantity of each material approved for disposal by Congress.

The Committee requests that interested parties provide written comments, supporting data and documentation, and any other relevant information on the potential market impact of the sale of these AMP commodities. Although comments in response to this Notice must be received by November 14, 2002, to ensure full consideration by the Committee, interested parties are encouraged to submit comments and supporting information at any time thereafter to keep the Committee informed as to the market impact of the sale of these commodities. Public comments are an important element of the Committee's market impact review process.

Public comments received will be made available at the Department of Commerce for public inspection and copying. Anyone submitting business confidential information should clearly identify the business confidential portion of the submission and also provide a non-confidential submission that can be placed in the public file. The Committee will seek to protect such information to the extent permitted by law.

The records related to this Notice will be made accessible in accordance with the regulations published in part 4 of Title 15 of the Code of Federal Regulations (15 CFR 4.1 et seq.). Specifically, the Bureau of Industry and Security's Freedom of Information Act (“FOIA”) reading room is located on its web page, which can be found at http://www.bis.doc.gov, and copies of the public comments received will be maintained at that location (see Freedom of Information Act (FOIA) heading). If requesters cannot access the web site, they may call (202) 482-2165 for assistance.

Dated: October 9, 2002.
James J. Jochum,
Assistant Secretary for Export Administration, Bureau of Industry and Security, Department of Commerce.

Attachment 1.—Proposed Revisions to FY 2003 Annual Materials Plan (AMP) and Proposed FY 2004 AMP
Material | Unit | Current FY 2003 Quanity | Revised FY 2003 quantity | Revised FY03 notes | Proposed FY2004 quantity | Proposed FY 04 notes
Aluminum Oxide, Abrasive | ST | 6,000 |  |  | 6,000 |
Antimony | ST | 5,000 |  | 1 | 0 |
Bauxite, Metallurgical Jamaican | LDT | 2,000,000 |  | 1 | 0 |
Bauxite, Refractory | LCT | 43,000 |  | 1 | 43,000 | 1
Beryl Ore | ST | 4,000 |  |  | 4,000 | 1
Beryllium Metal | ST | 40 |  |  | 40 |
Beryllium Copper Master Alloy | ST | 1,000 | 1,200 | 1 | 1,200 | 1
Cadmium | LB | 1,200,000 |  |  | 400,000 | 1
Celestite | SDT | 3,600 | 12,794 | 2 | 12,794 | 1
Chromite, Chemical | SDT | 100,000 |  | 1 | 100,000 | 1
Chromite, Metallurgical | SDT | 100,000 |  | 1 | 0 |
Chromite, Refractory | SDT | 100,000 |  |  | 100,000 | 1
Chromium, Ferro | ST | 150,000 |  |  | 150,000 | 1
Chromium, Metal | ST | 500 |  |  | 500 |
Cobalt | LB Co | 6,000,000 |  |  | 6,000,000 |
Columbium Carbide Powder | LB Cb | 21,500 |  | 1 | 0 |
Columbium Concentrates | LB Cb | 560,000 |  |  | 560,000 |
Columbium Metal Ingots | LB Cb | 20,000 |  |  | 20,000 |
Diamond Stone | ct | 600,000 | 1,000,000 | 1 | 600,000 | 1
Fluorspar, Acid Grade | SDT | 12,000 |  | 1 | 12,000 | 1
Fluorspar, Metallurgical Grade | SDT | 60,000 |  | 1 | 60,000 | 1
Germanium | Kg | 8,000 |  |  | 8,000 |
Graphite | ST | 3,760 | 4,800 | 1 | 2,000 | 1
Iodine | LB | 1,000,000 |  |  | 1,000,000 |
Jewel Bearings | PC | 82,051,558 |  | 1 | 82,051,558 | 1
Kyanite | SDT | 150 |  | 1 | 0 |
Lead | ST | 60,000 |  |  | 60,000 |
Manganese, Battery Grade, Natural | SDT | 30,000 |  |  | 30,000 |
Manganese, Battery Grade, Synthetic | SDT | 3,011 |  | 1 | 3,011 | 1
Manganese, Chemical Grade | SDT | 40,000 |  |  | 40,000 |
Manganese, Ferro | ST | 25,000 |  |  | 50,000 |
Manganese, Metal, Electrolytic | ST | 2,000 |  |  | 2,000 |
Manganese, Metallurgical Grade | SDT | 250,000 |  |  | 250,000 | 1
Mica, All | LB | 8,500,000 |  | 1 | 5,000,000 | 1
Palladium | Tr Oz | 350,000 |  | 1 | 200,000 | 1
Platinum | Tr Oz | 50,000 |  | 1 | 25,000 | 1
Platinum—Iridium | Tr Oz | 6,000 |  |  | 6,000 |
Quartz Crystals | Lb | 216,648 |  | 1 | 150,000 | 1
Quinidine | OZ | 750,000 | 2,211,122 | 2 | 2,211,122 | 1
Rubber | LT | 75,000 |  | 1 | 0 |
Sebacic Acid | LB | 600,000 |  | 600,000 |
Silver (Coins) | Tr Oz | 5,000,000 |  | 1 | 0 |
Talc | ST | 2,000 |  | 1 | 1,000 | 1
Tantalum Carbide Powder | LB Ta | 4,000 |  |  | 4,000 | 1
Tantalum Metal Ingots | LB Ta | 40,000 |  |  | 40,000 |
Tantalum Metal Powder | LB Ta | 50,000 |  | 1 | 40,000 | 1
Tantalum Minerals | LB Ta | 500,000 |  |  | 500,000 |
Tantalum Oxide | LB Ta | 20,000 |  |  | 20,000 |
Thorium | LB | 7,100,000 |  | ⅓ | 7,100,000 | ⅓
Tin | MT | 12,000 |  |  | 12,000 |
Titanium Sponge | ST | 7,000 |  |  | 7,000 |
Tungsten Ferro | LB W | 300,000 |  |  | 300,000 |
Tungsten Metal Powder | LB W | 300,000 |  |  | 300,000 |
Tungsten Ores & Concentrates | LB W | 4,000,000 |  |  | 4,000,000 |
VTE, Chestnut | LT | 250 |  | 1 | 0 |
VTE, Quebracho | LT | 50,000 |  |  | 50,000 |
VTE, Wattle | LT | 6,500 |  | 1 | 0 |
Zinc | ST | 50,000 |  |  | 50,000 |
Notes: 1. Actual quantity will be limited to remaining sales authority or inventory. 2. Previously approve by MIC. Submission to Congress pending. 3. The radioactive nature of this material may restrict sales or disposal options. Efforts are underway to determine the environmentally and economically feasible disposition of the material.

[FR Doc. 02-26165 Filed 10-11-02; 8:45 am]

BILLING CODE 3510-DR-P